COMMISSION ON CIVIL RIGHTS

Notice of Public Meeting of the Pennsylvania Advisory Committee

AGENCY: Commission on Civil Rights.

ACTION: Announcement of meeting.

SUMMARY: Notice is hereby given, pursuant to the provisions of the rules and regulations of the U.S. Commission on Civil Rights (Commission), and the Federal Advisory Committee Act (FACA) that two meetings of the Pennsylvania Advisory Committee to the Commission will convene by conference calls, as noted below. The purpose of both planning meetings is to discuss any further perfections to the Committee's draft report on School Discipline and the School-to-Prison Pipeline that the Committee recently voted to submit to the agency's legal sufficiency review; followed by submission of the final report to the Staff Director for publication.

DATES: The meetings will be held on:

• Tuesday, October 20, 2020, at 11:30 a.m. Eastern Time.

• Tuesday, November 17, 2020 at 11:30 a.m. Eastern Time.

Public Call-In Information: Conference call-in number: 800-367-2403 and conference call ID number: 5859731.

FOR FURTHER INFORMATION CONTACT: Ivy Davis at ero@usccr.gov or by phone at 202-376-7533.

SUPPLEMENTARY INFORMATION: Interested members of the public may listen to the discussion by calling the following toll-free conference call-in number: 800-367-2403 and conference call ID number: 5859731. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free conference call-in number.

Individuals who are deaf, deafblind and hard of hearing may also follow the discussion by first calling the Federal Relay Service at 1-800-877-8339 and providing the operator with the toll-free conference call-in number: 800-367-2403 and conference call ID number: 5859731.

Members of the public are invited to make brief statements during the Public Comment section of the meeting or submit written comments. The written comments must be received in the regional office approximately 30 days after the scheduled meeting. During the COVID-19 Pandemic, written comments may be emailed to the Eastern Regional Office, U.S. Commission on Civil Rights. The subject line should state: Atten: Corrine Sanders, PA Advisory Committee and submit to this email address: ero@usccr.gov. Persons who desire additional information may phone the Eastern Regional Office at (202) 376-7533.

Records and documents discussed during the meeting will be available for public viewing as they become available at: https://www.facadatabase.gov/FACA/FACAPublicViewCommitteeDetails?id=a10t0000001gzjZAAQ;click the “Meeting Details” and “Documents” links. Records generated from this meeting may also be inspected and reproduced at the Eastern Regional Office, as they become available, both before and after the meeting. Persons interested in the work of this advisory committee are advised to go to the Commission's website, www.usccr.gov, or to contact the Eastern Regional Office at the above phone number, email or street address.

Agenda

Rollcall

Welcome

Project Planning

Other Business

Next Public Meeting

Public Comments

Adjourn

Dated: September 25, 2020.
David Mussatt,
Supervisory Chief, Regional Programs Unit.

[FR Doc. 2020-21656 Filed 9-30-20; 8:45 am]

BILLING CODE P